DEPARTMENT OF ENERGY

10 CFR Part 430

[Docket Number EERE-2010-BT-TP-0023]

RIN 1904-AC26

Energy Conservation Program: Test Procedures for Microwave Ovens

AGENCY: Office of Energy Efficiency and Renewable Energy, Department of Energy.

ACTION: Request for information.

SUMMARY: The U.S. Department of Energy (DOE) has initiated a test procedure rulemaking to develop active mode testing methodologies for residential microwave ovens. DOE specifically is seeking information, data, and comments regarding representative and repeatable methods for measuring the energy use of microwave-only ovens and combination microwave ovens, including: Food loads representative of consumer use; the repeatability of energy use measurements using different food loads; and consumer usage data on the hours of operation in active mode, standby mode, and off mode for the development of an integrated energy use metric.

DATES: Written comments and information are requested on or before November 23, 2011.

ADDRESSES: Interested persons are encouraged to submit comments using the Federal eRulemaking Portal at http://www.regulations.gov. Follow the instructions for submitting comments. Alternatively, interested persons may submit comments, identified by docket number EERE-2010-BT-TP-0023 and/or RIN 1904-AC26, by any of the following methods:

• E-mail: MWO-2010-TP-0023@ee.doe.gov. Include docket number EERE-2010-BT-TP-0023 and/or RIN 1904-AC26 in the subject line of the message. Submit electronic comments in WordPerfect, Microsoft Word, PDF, or ASCII file format and avoid the use of special characters or any form of encryption.

• Postal Mail: Ms. Brenda Edwards, U.S. Department of Energy, Building Technologies Program, Mailstop EE-2J, 1000 Independence Avenue, SW., Washington, DC 20585-0121. Telephone: (202) 586-2945. Please submit one signed original paper copy.

• Hand Delivery/Courier: Ms. Brenda Edwards, U.S. Department of Energy, Building Technologies Program, 950 L'Enfant Plaza, SW., 6th Floor, Washington, DC 20024. Please submit one signed original paper copy.

Docket: For access to the docket to read background documents, or comments received, go to the Federal eRulemaking Portal at http://www.regulations.gov.

FOR FURTHER INFORMATION CONTACT: Mr. Wes Anderson, U.S. Department of Energy, Office of Energy Efficiency and Renewable Energy, Building Technologies Program, EE-2J, 1000 Independence Avenue, SW., Washington, DC 20585-0121. Telephone: 202-586-7335. E-mail: Wes.Anderson@ee.doe.gov.

In the Office of the General Counsel, contact Mr. Ari Altman, U.S. Department of Energy, 1000 Independence Ave., SW., Room 6B-159, Washington, DC 20585. Telephone: 202-287-6307; E-mail: Ari.Altman@hq.doe.gov.

SUPPLEMENTARY INFORMATION: On July 22, 2010, DOE published in the Federal Register a final rule for the microwave oven test procedure rulemaking (July TP repeal final rule), in which it repealed the regulatory provisions for establishing the cooking efficiency test procedure for microwave ovens under the Energy Policy and Conservation Act (EPCA). 75 FR 42579. In the July TP repeal final rule, DOE determined that the existing microwave oven test procedure to measure the cooking efficiency did not produce representative and repeatable test results and was unaware of any test procedures that have been developed that address DOE's concerns with the microwave oven cooking efficiency test procedure. DOE was also unaware of any research or data on consumer usage indicating what a representative food load would be, or any data showing the repeatability of test results. 75 FR 42579, 42581.

On July 22, 2010, DOE also published in the Federal Register a notice of public meeting to initiate a separate rulemaking process to consider new provisions for measuring microwave oven energy efficiency in active (cooking) mode. 75 FR 42611. DOE held the public meeting on September 16, 2010 to discuss and receive comments on several issues related to active mode test procedures for microwave ovens to consider in developing a new test procedure. DOE received no data or comments at or after the September 16, 2010 public meeting suggesting potential methodologies for test procedures for microwave oven active mode.

In support of its test procedure rulemaking, DOE conducts in-depth technical analyses of publicly available test standards and other relevant information. DOE continually seeks data and public input to improve its testing methodologies to more accurately reflect consumer use and to produce repeatable results. In general, DOE is requesting comment and supporting data regarding representative and repeatable methods for measuring the energy use of combination microwave ovens. Additionally, DOE seeks comment and information on the specific topics below.

Food Test Load Characteristics

DOE's previous active mode test procedure incorporated portions of the International Electrotechnical Commission (IEC) Standard 705-1998 and Amendment 2-1993, “Methods for Measuring the Performance of Microwave Ovens for Households and Similar Purpose.” The test methods measured the amount of energy required to raise the temperature of 1 kilogram of water by 10 degrees Celsius (°C) under controlled conditions. The ratio of usable output power over input power described the energy factor (EF), a measure of the cooking efficiency.¹ In comments received in response to a separate test procedure notice of proposed rulemaking (NOPR) published in the Federal Register on October 17, 2008, which addressed provisions for measuring standby mode and off mode energy use for microwave ovens (73 FR 62134), interested parties commented that pure water has relatively low specific resistivity, and actual food items that might be cooked in a microwave oven would have more salts and thus absorb microwave energy more efficiently than pure water. Interested parties stated that, as a result, testing with a water load would likely result in lower efficiency measurements than would be expected from using actual food products.

¹ The previous DOE microwave oven test procedure also provided for the calculation of several other measures of energy consumption, including cooking efficiency and annual energy consumption.

DOE also notes that IEC is currently revising its test standard for microwave ovens, IEC Standard 60705, “Household microwave ovens—Methods for measuring performance,” but that this test procedure continues to use a water load for testing. DOE is also unaware of any industry or international test standards that address the active mode cooking function of combination microwave ovens (i.e., microwave ovens that incorporate convection features or possibly other means of cooking) and what food loads would be appropriate for testing the combination cooking function.

DOE is therefore interested in stakeholder feedback on what food loads are most commonly cooked by consumers and should be used for measuring the energy efficiency of microwave oven cooking, as well as the methodology for testing such food loads. In particular, DOE is requesting inputs on the following:

• Consumer usage data on the characteristics of food loads cooked by consumers in both microwave-only and combination cooking modes. Please provide specific details on which food loads are cooked with the microwave-only cooking function and which are cooked with the combination cooking function;

• The percentage of cooking cycles consumers use the microwave-only and combination cooking modes;

• Specific details on the food loads, including, but not limited to, weights, composition, frequency of cooking, and initial and final temperatures, as well as the racks or plates used to hold the food load;

• Food loads used by manufacturers to evaluate both efficiency and cooking performance;

• Testing methodology for measuring the cooking efficiency using different food loads (Please provide specific details on suggested testing methodologies, including, but not limited to, the number and placement of temperature probes, required temperature increases, and any procedures for preparing the load prior to heating); and

• Appropriate metrics to use for measuring energy use or efficiency in both microwave-only ovens and combination microwave ovens.

Food Load Repeatability

As discussed previously, interested parties commented in response to the October 2008 test procedure NOPR that the previous DOE microwave oven test procedure did not produce repeatable results. DOE is not aware of any data on the repeatability of various food loads. DOE notes that consumer product review organizations evaluate performance of microwave ovens by testing loads such as: Potatoes, mashed potatoes, whole chicken, cake, and other real-world food loads. DOE also notes that one consumer product review organization in the UK uses a solidifying gel, TX-151, to simulate a food load (in this case lasagna).² DOE specifically requests comment on:

² For more information, visit http://www.which.co.uk/home-and-garden/kitchen/guides/how-we-test-microwaves/.

• Repeatability of various loads that may be used for measuring the energy efficiency of microwave oven active mode cooking. When providing data, please provide detailed description of the characteristics of the cooking load under test;

• Whether there are any artificial loads that accurately simulate real food loads and the repeatability of test results using those loads;

• Methodologies for improving the repeatability of testing using various food loads, for example, using multiple thermocouples to determine an average temperature;

• The number of identical tests that should be conducted for various food loads (with results averaged) in order to produce accurate and repeatable results; and

• Any testing burdens associated with testing various food loads.

Consumer Usage Data on Hours of Operation in Active Mode, Standby Mode, and Off Mode Operation

EPCA requires that the energy consumption in standby mode and off mode be integrated into the energy descriptor (which would include active mode) for a covered product unless the current test procedures already fully accounts for such consumption. If integration is technically infeasible, DOE must prescribe a separate standby mode and off mode energy use test procedure, if the latter is technically feasible. (42 U.S.C. 6295(gg)(2)(A)) DOE conducted a separate test procedure rulemaking and published an interim final rule amending its test procedures for microwave ovens to provide for the measurement of standby mode and off mode power use by microwave ovens. 76 FR 12825 (Mar. 9, 2011). In the interim final rule, DOE determined that the absence of active mode provisions results in a de facto separate energy use descriptor for microwave oven standby mode and off mode energy use. If DOE adopts amendments to the microwave oven test procedure to include provisions for measuring active mode energy use, it will consider adopting a single metric that integrates active mode, standby mode, and off mode energy use.

DOE is therefore interested in stakeholder feedback on developing such an integrated energy use metric. In particular, DOE is requesting inputs on the following:

• Consumer usage data on the number of hours microwave ovens are operated in active mode, standby mode, and off mode; and

• What metric should be used to describe the integrated energy use (i.e., annual energy use, EF, or cooking efficiency);

Public Participation

DOE invites all interested parties to submit in writing by November 23, 2011, comments and information on matters addressed in this notice and on other matters relevant to DOE's consideration of a revised test procedure for measuring the active mode energy consumption of residential microwaves (both microwave-only and combination microwave types).

After the close of the comment period, DOE will begin collecting data, conducting relevant analyses, and reviewing the public comments. These actions will be taken to aid in the development of a test procedure NOPR for residential microwaves.

DOE considers public participation to be a very important part of the process for developing test procedures. DOE actively encourages the participation of the public during the comment period in each stage of the rulemaking process. Interactions with and between members of the public provide a balanced discussion of the issues and assist DOE in the rulemaking process. Anyone who wishes to be added to the DOE mailing list to receive future notices and information about this rulemaking should contact Ms. Brenda Edwards at (202) 586-2945, or via e-mail at Brenda.Edwards@ee.doe.gov.

Issued in Washington, DC, on October 18, 2011.
Kathleen Hogan,
Deputy Assistant Secretary for Energy Efficiency, Energy Efficiency and Renewable Energy.

[FR Doc. 2011-27406 Filed 10-21-11; 8:45 am]

BILLING CODE 6450-01-P